DEPARTMENT OF HEALTH AND HUMAN SERVICES

Administration for Children and Families

Submission for OMB Review; Comment Request

Title: Home Visiting: Approaches to Father Engagement and Father's Experiences.

OMB No.: New Collection.

Description: The Administration for Children and Families (ACF), U.S. Department of Health and Human Services (HHS), is proposing a data collection activity as part of the Home Visiting: Approaches to Father Engagement and Father's Experiences study. This study will document strategies used by selected home visiting programs to engage and serve fathers and the perceptions and experience of participating fathers. The findings will be of utility for many home visiting programs that desire to increase the active engagement of fathers to support the positive development of children as well as to organizations which provide oversight and technical assistance to home visiting programs. Through semi-structured discussions, respondents will be asked to comment on the most important strategies to support and facilitate fathers' participation.

Respondents: Administrators and key staff of selected home visiting programs, home visitors, and selected participating fathers and mothers.

Annual Burden Estimates
Instrument | Total number of respondents | Number of responses per respondent | Average burden hours per response | Total burden hours | Annual burden hours (rounded)
Guide for Selecting Parents for Interviews | 5 | 1 | 10 | 50 | 50
Interview Guide for Program Administrators | 15 | 1 | 1.5 | 22.5 | 23
Interview Guide for Home Visitors | 25 | 1 | 1.25 | 31.25 | 31
Interview Guide for Fathers—English and Spanish versions | 40 | 1 | 1.27 | 50.8 | 51
Interview Guide for Mothers—English and Spanish versions | 10 | 1 | 1.02 | 10.2 | 10
Home Visit Observation Sheet | 10 | 1 | 0.17 | 1.7 | 2
Estimated Total Annual Burden Hours |  |  |  |  | 167

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration, for Children and Families.

Karl Koerper,
OPRE Reports Clearance Officer.

[FR Doc. 2014-09344 Filed 4-23-14; 8:45 am]

BILLING CODE 4184-35-P